DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 30307-30312, dated May 22, 2013) is amended to reorganize the Office of the Associate Director for Science, Office of the Director, Centers for Disease Control and Prevention, and to revise the functional statement for the Office of Scientific Integrity, Office of the Director, National Center for Immunization and Respiratory Diseases.

Section C-B, Organization and Functions, is hereby amended as follows:

Delete in its entirety the functional statement for the Office of the Director (CAS1), Office of the Associate Director for Science (CAS), and insert the following:

Office of the Director (CAS1). (1) Directs, manages, and coordinates the activities of the OADS; (2) develops goals and objectives, provides leadership, policy formation, scientific oversight, and guidance in program planning and development; and (3) oversees functions of Office of Science Quality, Office of Scientific Integrity, Office of Technology and Innovation, and Special Projects Activity.

After the title and function statement for the Office of Scientific Integrity (CASJ), Office of the Associate Director for Science (CAS), insert the following:

Office of Technology and Innovation (CASK). (1) Promotes and facilitates the development of technology and innovation throughout the spectrum of scientific discovery; (2) provides leadership and expertise to promote and effect the timely transfer of knowledge and technology for development of products and processes that improve public health; (3) manages CDC's intellectual property (e.g., patents, trademarks, copyrights) and promotes the transfer of new technology from CDC research to the private sector; (4) leads, develops, coordinates, and manages policies and/or activities that assure CDC intellectual property transfer, scientific training and technical assistance; (5) champions and facilitates innovation, collaborations and technology transfers among federal scientists, laboratories, academia and industry; (6) provides leadership and oversight for innovation activities that have the potential to transform the way that CDC and the private sector improve the public's health; (7) provides consultation and advice to the CDC Office of the Director, Centers/Institute/Offices, and programs related to technology transfer and innovation; and (8) maintains regular, open, and responsive communication with the CDC science community and other key partners including CDC Office of General Council, National Institute of Health, Department of Health and Human Services and United States Patent and Trademark Office.

Delete in its entirety the functional statement for the Office of Laboratory Science (CVG14), Office of the Director (CVG1), National Center for Immunization and Respiratory Diseases (CVG), and insert the following:

Office of Laboratory Science (CVG14). (1) Provides leadership, expertise and service in laboratory science; (2) represents NCIRD's interests in cross-cutting laboratory services in OID which include, but are not limited to, laboratory information systems, quality management systems and bioinformatics; (3) ensures a safe working environment in NCIRD laboratories; and (4) collaborates effectively with other centers and offices in carrying out its functions.

Dated: June 6, 2013.
Sherri A. Berger,
Chief Operating Officer, Centers for Disease Control and Prevention.

[FR Doc. 2013-14165 Filed 6-13-13; 8:45 am]

BILLING CODE 4163-18-M